DEPARTMENT OF COMMERCE

Foreign-Trade Zones Board

[Order No. 1532]

Reissuance of the Grant of Authority for Subzone 50B National Steel and Shipbuilding Company, San Diego, CA (Docket 1-2007)

Pursuant to its authority under the Foreign-Trade Zones Act of June 18, 1934, as amended (19 U.S.C. 81a-81u), the Foreign-Trade Zones Board (the Board) adopts the following Order:

After consideration of the request with supporting documents (filed 1/9/2007) from the Board of Harbor Commissioners of the City of Long Beach, California, grantee of FTZ 50, for the reissuance of the subzone grant of authority for the National Steel and Shipbuilding Company facilities in San Diego, California to the City of San Diego, California, grantee of Foreign-Trade Zone 153, which has joined in the request, the Board, finding that the requirements of the Foreign-Trade Zones Act, as amended, and the Board's regulations are satisfied, and that the proposal is in the public interest, approves the request and recognizes the City of San Diego as the new grantee of the National Steel and Shipbuilding Company Subzone, which is hereby redesignated as Subzone 153E.

The approval is subject to the FTZ Act and the FTZ Board's regulations, including Section 400.28.

Signed at Washington, DC this 2nd day of November 2007.
David M. Spooner,
Assistant Secretary of Commerce for Import Administration, Alternate Chairman, Foreign-Trade Zones Board.
Attest:
Andrew McGilvray
Executive Secretary.

[FR Doc. E7-22758 Filed 11-20-07; 8:45 am]

BILLING CODE 3510-DS-P